FEDERAL COMMUNICATIONS COMMISSION

Sunshine Act Meeting, Open Commission Meeting, Thursday, December 7, 2000

The Federal Communications Commission will hold an Open Meeting on the subjects listed below on Thursday, December 7, 2000, which is scheduled to commence at 9:30 a.m. in Room TW-C305, at 445 12th Street, SW., Washington, DC.

Item No., Bureau, and Subject

1—Mass Media—Title: Applications of Anderson Broadcasting Company (Assignor) and Cumulus Licensing Corp. (Assignee); For Consent to the Assignment of the Licenses of KBMR(AM), Bismarck, ND, KXMR(AM), Bismarck, ND, KSSS(FM), Bismarck, ND, KAVG(FM), Beulah, ND, and KBKU(FM), Hettinger, ND. (File Nos. BAL/BALH/BAP-19991004AAY-ABC). Summary: The Commission will consider a Hearing Designation Order concerning applications for the assignment of licenses from Anderson Broadcasting Company to Cumulus Licensing Corp.

2—Mass Media—Title: Definition of Radio Markets. Summary: The Commission will consider a Notice of Proposed Rule Making concerning its methodology for defining radio markets, and other related policies for applying the radio multiple ownership rules.

3—Common Carrier—Title: Numbering Resource Optimization (CC Docket No. 99-200); and Petition for Declaratory Ruling and Request for Expedited Action on the July 15, 1997 Order of the Pennsylvania Public Utility Commission Regarding Area Codes 412, 610, 215, and 717 (CC Docket No. 96-98). Summary: The Commission will consider a Second Report and Order, Order on Reconsideration in CC Docket No. 96-98 and CC Docket No. 99-200, and a Second Further Notice of Proposed Rule Making in CC Docket No. 99-200 regarding plans for nationwide thousands-block number pooling and other strategies to ensure that the numbering resources of the North American Numbering Plan are used efficiently.

4—Office of Engineering and Technology—Title: Authorization and Use of Software Defined Radios (ET Docket No. 00-47). Summary: The Commission will consider a Notice of Proposed Rule Making concerning the authorization and sue of software defined radios.

Additional information concerning this meeting may be obtained from Maureen Peratino or David Fiske, Office of Media Relations, telephone number (202) 418-0500; TTY (202) 418-2555.

Copies of materials adopted at this meeting can be purchased from the FCC's duplicating contractor, International Transcription Services, Inc. (ITS, Inc.) at (202) 857-3800; fax (202) 857-3805 and 857-3184; or TTY (202) 293-8810. These copies are available in paper format and alternative media, including large print/type; digital disk; and audio tape. ITS may be reached by e-mail its_inc@ix.netcom.com. Their Internet address is http://www.itsdocs.com/.

This meeting can be viewed over George Mason University's Capitol Connection. The Capitol Connection can be viewed over George Mason University's Capitol Connection. The Capitol Connection also will carry the meeting live via the Internet. For information on these services call (703) 993-3100. The audio portion of the meeting will be broadcast live on the Internet via the FCC's Internet audio broadcast page at <http://www.fec.gov/realaudio/>. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Federal Communications Commission.
Shirley Suggs,
Chief, Publications Branch.

[FR Doc. 00-31049 Filed 12-1-00; 2:44 pm]

BILLING CODE 6712-01-M